FEDERAL COMMUNICATIONS COMMISSION

Notice of Public Information Collection(s) Being Submitted to OMB for Review and Approval

November 15, 2000.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before December 21, 2000. If you anticipate that you will be submitting comments, but find it difficult to do so within the period of time allowed by this notice, you should advise the contact listed below as soon as possible.

ADDRESSES: Direct all comments to Les Smith, Federal Communications Commission, Room 1-A804, 445 12th Street, S.W., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0783.

Title: 47 CFR Section 90.176, Coordination Notification Requirements on Frequencies below 512 MHz.

Form Number: N/A.

Type of Review: Revision of a currently approved collection.

Respondents: Business or other for-profit entities.

Number of Respondents: 15.

Estimate Time Per Response: 0.5 hours (multiple responses/annum).

Frequency of Response: On occasion reporting requirements; Third party collection.

Total Annual Burden: 1,950 hours.

Total Annual Costs: None.

Needs and Uses: The revision to the reporting requirement in 47 CFR Section 90.176 resulted from the decisions in the Second MO&O in PR Docket No. 96-86 that add the frequency bands 764-776/794-806 MHz. The rule requires each Private Land Mobile frequency coordinator to provide, within one business day, a list of their frequency recommendations to all other frequency coordinators in their respective pool, and if requested, an engineering analysis. This requirement is necessary to avoid situations where harmful interference is created because two or more coordinators recommend the same frequency in the same area at approximately the same time to different applicants.

OMB Control Number: 3060-0895.

Title: Numbering Resource Optimization, CC Docket No. 99-200.

Form Number: FCC 502.

Type of Review: Extension of a currently approved collection.

Respondents: Business or other for-profit entities; State, local, or tribal government.

Number of Respondents: 2,780.

Estimate Time Per Response: 1 to 44.4 hours.

Frequency of Response: Recordkeeping; On occasion, semi-annual, and one-time reporting requirements; Third party disclosure.

Total Annual Burden: 181,890 hours.

Total Annual Costs: $7,858,650.

Needs and Uses: Carriers that receive numbering resources from the North American Numbering Plan Administrator (NANPA) or that receive other numbering resources from a Pooling Administrator in thousands-blocks must report forecast and utilization data semi-annually. These carriers are also required to maintain detailed internal records of their numbering usage. Carriers must file applications for initial and growth numbering resources. The FCC, state regulatory commissions, and NANPA will use this information to monitor numbering resource utilization and to project the dates when area codes and NANP will be exhausted.

Federal Communications Commission.
Magalie Roman Salas,
Secretary.

[FR Doc. 00-29772 Filed 11-20-00; 8:45 am]

BILLING CODE 6712-01-U